DEPARTMENT OF COMMERCE

National Institute of Standards and Technology

Agency Information Collection Activities; Submission to the Office of Management and Budget (OMB) for Review and Approval; Comment Request; Malcolm Baldrige National Quality Award and Examiner Applications

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 21, 2022.

ADDRESSES: Interested persons are invited to submit written comments to Maureen O'Reilly, Management Analyst, NIST by email to PRAcomments@doc.gov. Please reference OMB Control Number 0693-0006 in the subject line of your comments. Do not submit Confidential Business Information or otherwise sensitive or protected information.

FOR FURTHER INFORMATION CONTACT: Requests for additional information or specific questions related to collection activities should be directed to Dawn Bailey, Baldrige Performance Excellence Program, NIST, 100 Bureau Drive, Stop 1020, Gaithersburg, MD 20899, 301-975-3074, dawn.bailey@nist.gov.

SUPPLEMENTARY INFORMATION:

I. Abstract

The Department of Commerce is responsible for the Baldrige Performance Excellence Program (BPEP) and the Malcolm Baldrige National Quality Award (MBNQA), the nation's highest award for organizational performance excellence. Directly associated with this award is the Board of Examiners, an integral volunteer workforce for BPEP. NIST manages BPEP. An applicant organization for the MBNQA is required to perform two steps: (1) The applicant organization self-certifies that it meets eligibility requirements with an eligibility form; and (2) the applicant organization prepares and completes an application package. BPEP will assist with or offer advice on any questions or issues that the applicant may have concerning the eligibility or application processes; this includes BPEP staff manning a hotline during the week and on weekends for organizations to call or email. With the help of the Board of Examiners, BPEP will use the eligibility forms and application package to assess and provide feedback on the applicant's performance excellence practices. These practices could lead to a MBNQA awarded by the President of the United States or his delegate.

Per Public Law 100-107 (Malcolm Baldrige National Quality Improvement Act of 1987), the MBNQA helps to stimulate American companies to improve quality and productivity for the pride of recognition while obtaining a competitive edge through increased profits; recognizes the achievements of those companies that improve the quality of their goods and services and provide an example to others; establishes guidelines and criteria that can be used by business, industrial, governmental, and other organizations in evaluating their own quality improvement efforts; and provides specific guidance for other American organizations that wish to learn how to manage for high quality by making available detailed information on how winning organizations were able to change their cultures and achieve eminence.

The application to be a member of the Board of Examiners is a one-step, secure, online process. Each year, BPEP recruits highly skilled experts in the fields of manufacturing, service, small business, health care, education, and nonprofit, the six Award eligibility categories, to evaluate the applications that BPEP receives. Examiners serve for a one-year term; participation on the board is entirely voluntary. Examiners receive three- to four-days of free on-site training (depending on experience level).

BPEP's mission to improve the competitiveness and performance of U.S. organizations for the benefit of all U.S. residents.

II. Method of Collection

MBNQA applicant organizations must comply in writing according to the Eligibility Certification Form and Baldrige Award Application Form available at http://www.nist.gov/baldrige/enter/how_to_apply.cfm. Information on the application for the Board of Examiners can be found at http://www.nist.gov/baldrige/examiners/index.cfm. BPEP will electronically send a unique user ID and password (separate emails) on how applicants to the Board of Examiners can apply to the secure system.

III. Data

OMB Control Number: 0693-0006.

Form Number(s): None.

Type of Review: Regular submission, revision of a current information collection.

Affected Public: Business, health care, education, or other for-profit organizations; health care, education, and other nonprofit organizations; and individuals or households.

Estimated Number of Respondents: 580 (30 Applications for MBNQA and 550 Applicants for the Board of Examiners).

Estimated Time per Response: 30 minutes for MBNQA eligibility form, 74 hours for MBNQA application, and 30 minutes for examiner applications.

Estimated Total Annual Burden Hours: 2,510 (MBNQA = 15 hours for eligibility form, 2,220 hours for application, Board of Examiners = 275 hours).

Estimated Total Annual Cost to Public: MBNQA = $1,610-$79,610 (application and site visit fees vary depending on profit nature of organization and its sector [e.g., smallest fee is for a nonprofit K-12 school, largest fee is for a global manufacturer]; additionally, only 25% of applications pay site visit fees that again vary depending on number of sites and sector of the organization and Board of Examiners: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-08338 Filed 4-18-22; 8:45 am]

BILLING CODE 3510-13-P